DEPARTMENT OF HEALTH AND HUMAN SERVICES

Food and Drug Administration

[Docket Nos. FDA-2018-N-0073; FDA-2018-N-0074; FDA-2010-N-0155; FDA-2014-N-0987; FDA-2016-D-1164; FDA-2014-N-2029; FDA-2012-N-0369; FDA-2017-N-6730; FDA-2009-N-0025; FDA-2014-N-2294; and FDA-2018-N-1129]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Irradiation in the Production, Processing, and Handling of Food | 0910-0186 | 7/31/2021
State Enforcement Notifications | 0910-0275 | 7/31/2021
Veterinary Feed Directive | 0910-0363 | 7/31/2021
Generic Clearance for the Collection of Qualitative Data on Tobacco Products and Communications | 0910-0796 | 7/31/2021
Quality Facility Attestation | 0910-0854 | 7/31/2021
Administrative Practices and Procedures; Formal Evidentiary Public Hearing | 0910-0191 | 8/31/2021
Regulations Under the Federal Import Milk Act | 0910-0212 | 8/31/2021
Medical Device Reporting | 0910-0437 | 8/31/2021
Animal Food Labeling; Declaration of Certifiable Color Additives | 0910-0721 | 8/31/2021
Evaluation of the Food and Drug Administration's Fresh Empire Multicultural Youth Tobacco Prevention Campaign | 0910-0788 | 8/31/2021
National Agriculture and Food Defense Strategy Survey | 0910-0855 | 8/31/2021

Dated: September 25, 2018.
Leslie Kux,
Associate Commissioner for Policy.

[FR Doc. 2018-21209 Filed 9-27-18; 8:45 am]

BILLING CODE 4164-01-P